DEPARTMENT OF ENERGY

Federal Energy Regulatory Commission

[Docket No. EL21-91-000]

PJM Interconnection, L.L.C.; Notice of Institution of Section 206 Proceeding and Refund Effective Date

On August 10, 2021, the Commission issued an order in Docket No. EL21-91-000, pursuant to section 206 of the Federal Power Act (FPA), 16 U.S.C. 824e, instituting an investigation into whether the existing rates for generating units providing Black Start Service based on a federal corporate income tax rate that pre-dates the Tax Cuts and Jobs Act of 2017, remain just and reasonable. PJM Interconnection, L.L.C., 176 FERC ¶ 61,080 (2021).

The refund effective date in Docket No. EL21-91-000, established pursuant to section 206(b) of the FPA, will be the date of publication of this notice in the Federal Register.

Any interested person desiring to be heard in Docket No. EL21-91-000 must file a notice of intervention or motion to intervene, as appropriate, with the Federal Energy Regulatory Commission, in accordance with Rule 214 of the Commission's Rules of Practice and Procedure, 18 CFR 385.214 (2020), within 21 days of the date of issuance of the order.

The filings are accessible in the Commission's eLibrary system on the Commission's home page (http://www.ferc.gov) using the “eLibrary” link. Enter the docket number excluding the last three digits in the docket number field to access the document.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 11, 2021.
Debbie-Anne A. Reese,
Deputy Secretary.

[FR Doc. 2021-17633 Filed 8-16-21; 8:45 am]

BILLING CODE 6717-01-P